DEPARTMENT OF ENERGY

Federal Energy Regulatory Commission

Combined Notice of Filings

Take notice that the Commission has received the following Natural Gas Pipeline Rate and Refund Report filings:

Docket Numbers: RP21-854-000.

Applicants: Natural Gas Pipeline Company of America.

Description: § 4(d) Rate Filing: Negotiated Rate Agreement Filing—Uniper Global to be effective 6/1/2021.

Filed Date: 5/28/21.

Accession Number: 20210528-5008.

Comments Due: 5 p.m. ET 6/9/21.

Docket Numbers: RP21-855-000.

Applicants: Gulf South Pipeline Company, LLC.

Description: § 4(d) Rate Filing: Amendment to Neg Rate Agmt (Wells Fargo 51758) to be effective 6/1/2021.

Filed Date: 5/28/21.

Accession Number: 20210528-5074.

Comments Due: 5 p.m. ET 6/9/21.

Docket Numbers: RP21-856-000.

Applicants: Midcontinent Express Pipeline LLC.

Description: § 4(d) Rate Filing: Targa FTS Negotiated Rate to be effective 6/1/2021.

Filed Date: 5/28/21.

Accession Number: 20210528-5093.

Comments Due: 5 p.m. ET 6/9/21.

Docket Numbers: RP21-857-000.

Applicants: Gulf South Pipeline Company, LLC.

Description: § 4(d) Rate Filing: Cap Rel Neg Rate Agmt (Southern 49811 to FPL 54066) to be effective 6/1/2021.

Filed Date: 5/28/21.

Accession Number: 20210528-5116.

Comments Due: 5 p.m. ET 6/9/21.

Docket Numbers: RP21-858-000.

Applicants: Gulf South Pipeline Company, LLC.

Description: § 4(d) Rate Filing: Cap Rel Neg Rate Agmts (Atlanta Gas 8438 to various shippers eff 6-1-2021) to be effective 6/1/2021.

Filed Date: 5/28/21.

Accession Number: 20210528-5117.

Comments Due: 5 p.m. ET 6/9/21.

Docket Numbers: RP21-859-000.

Applicants: Kern River Gas Transmission Company.

Description: § 4(d) Rate Filing: 2021 May Negotiated Rate Amendments to be effective 6/1/2021.

Filed Date: 5/28/21.

Accession Number: 20210528-5140.

Comments Due: 5 p.m. ET 6/9/21.

Docket Numbers: RP21-860-000.

Applicants: Kern River Gas Transmission Company.

Description: § 4(d) Rate Filing: 2021 Housekeeping Original Volume 1A to be effective 6/28/2021.

Filed Date: 5/28/21.

Accession Number: 20210528-5148.

Comments Due: 5 p.m. ET 6/9/21.

Docket Numbers: RP21-861-000.

Applicants: Wyoming Interstate Company, L.L.C.

Description: § 4(d) Rate Filing: Negotiated Rate Agreement (Hartree) to be effective 6/1/2021.

Filed Date: 5/28/21.

Accession Number: 20210528-5172.

Comments Due: 5 p.m. ET 6/9/21.

Docket Numbers: RP21-862-000.

Applicants: Northern Natural Gas Company.

Description: § 4(d) Rate Filing: 20210528 Negotiated Rate to be effective 6/1/2021.

Filed Date: 5/28/21.

Accession Number: 20210528-5212.

Comments Due: 5 p.m. ET 6/9/21.

Docket Numbers: RP21-863-000.

Applicants: Rockies Express Pipeline LLC.

Description: § 4(d) Rate Filing: REX 2021-05-28 Negotiated Rate Agreement to be effective 6/1/2021.

Filed Date: 5/28/21.

Accession Number: 20210528-5251.

Comments Due: 5 p.m. ET 6/9/21.

Docket Numbers: RP21-864-000.

Applicants: Horizon Pipeline Company, L.L.C.

Description: § 4(d) Rate Filing: Negotiated Rate Agreement Filing—Elgin Energy Center LLC to be effective 6/1/2021.

Filed Date: 5/28/21.

Accession Number: 20210528-5258.

Comments Due: 5 p.m. ET 6/9/21.

Docket Numbers: RP21-865-000.

Applicants: MarkWest Pioneer, L.L.C.

Description: § 4(d) Rate Filing: Quarterly Fuel Adjustment Filing to be effective 7/1/2021.

Filed Date: 5/28/21.

Accession Number: 20210528-5313.

Comments Due: 5 p.m. ET 6/9/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 1, 2021.
Debbie-Anne A. Reese,
Deputy Secretary.

[FR Doc. 2021-11870 Filed 6-4-21; 8:45 am]

BILLING CODE 6717-01-P